COMMISSION ON CIVIL RIGHTS

Agenda and Notice of Public Meeting of the New York Advisory Committee

Dates and Times: Friday, April 10, 2015 at 12:00 p.m. [EDT]

Place: Via Teleconference. Public Dial-in 1-877-446-3914; Listen Line Code: 3098402

TDD: Dial Federal Relay Service 1-800-977-8339 give operator the following number: 202-376-7533—or by email at ero@usccr.gov.

Notice is hereby given, pursuant to the provisions of the rules and regulations of the U.S. Commission on Civil Rights (Commission), and the Federal Advisory Committee Act (FACA), that a planning meeting of the New York Advisory Committee to the Commission will convene at 12:00 p.m. via conference call on Friday, April 10, 2015. The purpose of the planning meeting is for the Advisory Committee to discuss plans to conduct a public meeting on the over policing of communities of color in New York.

The meeting will be conducted via conference call. Persons with hearing impairments must first dial the Federal Relay Service TDD: 1-800-977-8339 and give the operator the Eastern Regional Office number (202-376-7533).

Members of the public who call-in can expect to incur charges for calls they initiate over wireless lines, and the Commission will not refund any incurred charges. Callers will incur no charge for calls they initiate over land-line connections to the toll-free telephone number.

Members of the public are entitled to submit written comments. The comments must be received in ERO by 30 days after the meeting date. Comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at 202-376-7533.

Records generated from this meeting may be inspected and reproduced at the Eastern Regional Office, as they become available, both before and after the meeting. Persons interested in the work of this advisory committee are advised to go to the Commission's Web site, www.usccr.gov, or to contact the Eastern Regional Office at the above phone number, email or street address.

The meeting will be conducted pursuant to the provisions of the rules and regulations of the Commission and FACA.

Exceptional Circumstance: Pursuant to 41 CFR 102-3.150, the notice for this meeting is given less than 15 calendar days prior to the meeting because of the exceptional circumstances of technical difficulties occurring in the process of having the meeting notice signed and sent to the Federal Register.

Dated: March 25, 2015.
David Mussatt,
Chief, Regional Programs Unit.

[FR Doc. 2015-07239 Filed 3-30-15; 8:45 am]

BILLING CODE 6335-01-P